ENVIRONMENTAL PROTECTION AGENCY

[FRL-7591-6]

Science Advisory Board Staff Office; Notification of Multiple Upcoming Meetings

AGENCY: Environmental Protection Agency (EPA).

ACTION: Notice.

SUMMARY: The EPA Science Advisory Board (SAB) Staff Office announces upcoming multiple meetings of the:

(1) SAB Drinking Water Committee: Face to face meeting.

(2) SAB Cross-Agency Science and Technology Budget Review: Face to face meeting.

(3) Joint meeting of the SAB Environmental Health Committee, and the Integrated Health and Exposure Committee: Face to Face Meeting.

(4) The Advisory Council on Clean Air Compliance Analysis Special Council Panel for the Review of the Third 812 Analysis (Council Special Panel): Public teleconferences.

(5) The SAB Committee on Valuing the Protection of Ecological Systems and Services: Public teleconference.

DATES: December 3, 2003: The SAB Committee on Valuing the Protection of Ecological Systems and Services will hold a public teleconference from 1 p.m. to 2:30 p.m. (EST).

December 10, 2003: The SAB Drinking Water Committee will hold a face-to-face meeting from 9 a.m.. to 12:30 p.m. (EST).

December 10, 2003: The first of a series of public face-to-face meetings of the SAB Cross-Agency Science and Technology Budget Review will be held from 12:30 p.m. to 5:30 p.m. (EST).

December 12, 2003: A joint public face-to-face meeting of the SAB Environmental Health Committee, and the Integrated Health and Exposure Committee will be held from 9 a.m.. to 12:30 p.m. (EST).

December 19, 2003 and December 22, 2003: The Advisory Council on Clean Air Compliance Analysis Special Council Panel for the Review of the Third 812 Analysis (Council Special Panel) will hold a public teleconference from 12 p.m. to 2 p.m. (EST) both days.

ADDRESSES: Face to Face Meetings: The meeting location for the face to face meetings of the SAB Drinking Water Committee, SAB Cross-Agency Science and Technology Budget Review, SAB Environmental Health Committee, and the Integrated Health and Exposure Committee, is the Washington, DC. Metropolitan area. The specific meeting locations and agendas will be announced on the SAB Web site, http://www.epa/sab ten calendar days prior to the meetings.

Public teleconferences: Participation in the teleconference meetings will be by teleconference only. The agendas will be announced on the SAB Web site, http://www.epa/sab ten calendar days prior to the teleconferences.

FOR FURTHER INFORMATION CONTACT: To reach a central number at the EPA SAB Staff Office, please call via telephone (202) 564-4533, U.S. EPA Science Advisory Board (1400A), 1200 Pennsylvania Avenue, NW., Washington, DC 20460. General information about the SAB can be found in the SAB Web site at http://www.epa.gov/sab.

Members of the public who wish to obtain the call in number and access code to participate in the teleconferences of the Council Special Panel, or the SAB Committee on Valuing the Protection of Ecological Systems, may contact Dr. Angela Nugent, Designated Federal Officer (DFO), via telephone, (202) 564-4562; or via e-mail at nugent.angela@epa.gov.

Any member of the public wishing further information regarding the face to face meetings of the SAB Drinking Water Committee, please contact Dr. James N. Rowe, DFO, via telephone (202) 564-6488; or via e-mail at rowe.james@epa.gov. For information regarding the SAB Cross-Agency Science and Technology Budget Review, please contact Mr. Thomas Miller, DFO, via telephone, (202) 564-4558; or via e-mail at miller.tom@epa.gov. For information regarding the SAB Environmental Health Committee, and the Integrated Health and Exposure Committee, please contact Dr. Suhair Shallal, DFO, via telephone (202) 564-4566; or via e-mail at shallal.suhair@epa.gov.

SUPPLEMENTARY INFORMATION:

Drinking Water Committee

The SAB Drinking Water Committee will be meeting with the Office of Water (OW) and the Office of Research and Development (ORD) on December 10, 2003, to receive informational briefings. OW will make presentations on (1) their overall process for implementing the regulatory and risk assessment program for the Safe Drinking Water Act (SDWA), and (2) discussion of the intersection between the Clean Water Act (CWA) and SDWA with regards to preserving and restoring drinking water sources. An overview of ORD's Multi-Year Plan (MYP) for drinking water research will be presented. The briefings will set the stage for a formal review of the Drinking Water MYP and consultations on CWA/SDWA interactions on drinking water sources during the spring and summer of FY 2004.

Science Advisory Board Cross-Agency Science and Technology Budget Review

The Board of the SAB will review EPA's cross agency science and technology budget for 2005. Collectively, Board members have broad expertise in all aspects of environmental sciences and their expertise is appropriate to addressing EPA's charge. Further, these SAB members have been appointed by the Administrator, to provide advice on broad issues of research planning, budgeting, and management as well as a variety of specific scientific and technical issues.

The Board will hold a series of meetings that will be used to receive briefings on the content of EPA's science and technology programs across the Agency and to review the EPA FY 2005 science and technology budget itself. The briefing meetings will begin on December 10, 2003, and continue into January 2004. During February, the SAB will meet and deliberate on the Agency's FY 2005 science and technology budget. Some meetings will be conducted as face to face meetings of the participants while others will be conducted by telephone conference. All meetings will be open to the public, however, seating is limited and available on a first come basis.

The purpose of this meeting is to: (1) Receive presentations from EPA representatives on the science and technology programs conducted in support of two of EPA's strategic Goal areas, Goal 1 (Clean Air and Global Climate Change) and Goal 2 (Clean and Safe Water), (2) to discuss these programs with Agency representatives and to clarify specific points of interest raised by the Panelists; (3) to make and discuss Panel assignments for the review; and (4) to receive public comments if any are offered.

At a face to face meeting in February 2004, the Board will review the science and technology components of the EPA Fiscal Year 2005 Budget Request and prepare a report to the EPA Administrator on their findings and recommendations.

Environmental Health Committee, and the Integrated Human Exposure Committee

The Environmental Health Committee, and the Integrated Human Exposure Committee will hold a joint meeting to receive informational briefings from various offices within EPA concerning ongoing initiatives for improving risk assessment methodologies. This information will serve as background for upcoming reviews that Environmental Health Committee and the Integrated Human Exposure Committee will participate in during FY 2004.

The Advisory Council on Clean Air Compliance Analysis Special Council Panel for the Review of the Third 812 Analysis (Council Special Panel)

The Council Special Panel will hold a public teleconference call, as described above, to advise the Agency on its plan to develop the third in a series of statutorily mandated comprehensive analyses of the total costs and benefits of programs implemented pursuant to the Clean Air Act. Background on the Council Special Panel and this advisory project was provided in a Federal Register notice published on February 14, 2003 (68 FR 7531-7534).

The public teleconference on December 19, 2003, described above, is planned for the Council Special Panel to review and act on a draft report entitled “Advisory on Plans for Health Effects Analysis in the Analytical Plan for EPA's Second Prospective Analysis—Benefits and Costs of the Clean Air Act, 1990-2020,” developed by the Council's Health Effects Subcommittee.

The public teleconference on December 22, 2003, described above, is planned for the Council Special Panel to review and act on a draft report finalizing an Advisory related to the Council Special Panel's review of the Revised Analytical Plan for EPA's Second Prospective Analysis.

Both draft reports identified above will be posted on the SAB Web site as a draft report (consult the following page: http://www.epa.gov/science1/drrep.htm).

SAB Committee on Valuing the Protection of Ecological Systems and Services

The SAB Committee on Valuing the Protection of Ecological Systems and Services will hold a public meeting, as described above, to plan its future work, including a public advisory meeting tentatively planned for January 20-22, 2004.

Background on the Committee and its charge was provided in a Federal Register notice published on March 7, 2003 (68 FR 11082-11084). The overall charge to the Committee is to assess Agency needs and the state of the art and science of valuing protection of ecological systems and services, and then to identify key areas for improving knowledge, methodologies, practice, and research.

Procedures for Providing Public Comment. It is the policy of the EPA SAB Staff Office to accept written public comments of any length, and to accommodate oral public comments whenever possible. The EPA SAB Staff Office expects that public statements presented at the meetings described above will not be repetitive of previously submitted oral or written statements. Oral Comments: In general, each individual or group requesting an oral presentation at a face to face meeting will be limited to a total time of ten minutes (unless otherwise indicated). For teleconference meetings, opportunities for oral comment will usually be limited to no more than three minutes per speaker and no more than fifteen minutes total. Interested parties should contact the DFO in writing (e-mail, fax or mail) at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: One hard copy with original signature, and one electronic copy via e-mail (acceptable file format: Adobe Acrobat, WordPerfect, Word, or Rich Text files (in IBM-PC/Windows 95/98 format)). Those providing written comments and who attend the meeting are also asked to bring 35 copies of their comments for public distribution.

Meeting Accommodations: Individuals requiring special accommodation to access these meetings, should contact the SAB Staff Office, at least five business days prior to the meeting so that appropriate arrangements can be made. Meeting space is limited and on a first-come first-served basis.

Dated: November 20, 2003.
Anthony F. Maciorowski,
Acting Associate Director, EPA Science Advisory Board Staff Office.

[FR Doc. 03-29431 Filed 11-24-03; 8:45 am]

BILLING CODE 6560-50-P